POSTAL SERVICE

Postal Service Board of Governors, Sunshine Act Meeting

Board Votes to Close July 12, 2006, Meeting

In person and by telephone vote on July 12, 2006, a majority of the members contacted and voting, the Board of Governors voted to close to public observation a meeting held in Washington, DC via teleconference. The Board determined that prior public notice was not possible.

Items Considered:

1. Strategic Planning.

2. Rate Case Update.

3. Labor Negotiations Planning.

General Counsel Certification: The General Counsel of the United States Postal Service has certified that the meeting was properly closed under the Government in the Sunshine Act.

Contact Person for More Information: Requests for information about the meeting should be addressed to the Secretary of the Board, Wendy A. Hocking, at (202) 268-4800.

Wendy A. Hocking,
Secretary.

[FR Doc. 06-6383 Filed 7-17-06; 3:09 pm]

BILLING CODE 7710-12-M